DEPARTMENT OF DEFENSE

Department of the Army, Corps of Engineers

Notice of Availability for the Draft Environmental Impact Statement/Environmental Impact Report for the Burlington Northern Santa Fe (BNSF) Cajon Third Main Track Summit to Keenbrook, San Bernardino County, CA

AGENCY: Department of the Army, U.S. Army Corps of Engineers, DoD

ACTION: Notice of Availability.

SUMMARY: Pursuant to section 102(2)(c) of the National Environmental Policy Act (NEPA) of 1969 (as amended), the U.S. Army Corps of Engineers, Los Angeles District (Corps) Regulatory Branch, in coordination with the County of San Bernardino and in cooperation with U.S. Forest Service, has completed a Draft Environmental Impact Statement/Environmental Impact Report (EIS/EIR) for the Burlington Northern Santa Fe (BNSF) Third Main Track Summit to Keenbrook Project. The proposed BNSF project requires authorization pursuant to section 404 of the Clean Water Act for approximately 2.95 acres of fill placement in jurisdictional waters of the United States, including wetlands, to construct 15.9 miles of a new main track through the Cajon Pass in San Bernardino County, California. A public hearing will be held at the Norman F. Feldheym Central Library—Bing Wong Auditorium, located at 555 West 6th Street, San Bernardino, CA 92401 on December 5, 2006 from 6 p.m. to 8 p.m.

FOR FURTHER INFORMATION CONTACT: Questions or comments concerning the Draft EIS/EIR should be directed to Ms. Susan A. Meyer, Senior Project Manager, Regulatory Branch, U.S. Army Corps of Engineers, Los Angeles District, P.O. Box 532711, 915 Wilshire Boulevard, Los Angeles, CA 90053-2325, (808) 438-2137.

SUPPLEMENTARY INFORMATION: Copies of the Draft EIS/EIR will be made available to the public for review only at the following libraries: Norman F. Feldheym Central Library (San Bernardino, California), Hesperia Branch Library (Hesperia, California), and the Rancho Cucamonga Public Library (Rancho Cucamonga, California). Written comments received on or before January 4, 2007 will be considered by the Corps in decision making for the Final EIS. Comments should be submitted to the contact listed above.

Dated: October 31, 2006.
David J. Castanon,
Chief, Regulatory Branch.

[FR Doc. E6-19049 Filed 11-8-06; 8:45 am]

BILLING CODE 3710-KF-P